NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of a field research camp located in ASPA #128—Western Shore of Admiralty Bay, King George Island by the Antarctic Marine Living Resources Program, Southwest Fisheries Science Center, La Jolla, CA. The application is submitted to NSF pursuant to regulations issued under the Antarctic Conservation Act of 1978.

DATES: Interested parties are invited to submit written data, comments, or views with respect to this permit application within September 7, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for operation of remote research field camp at ASPA #128—Western Shore of Admiralty Bay, King George Island. The camp consists of four structures on the beach between Llano Point and Sphinx Hill which has been in use during the summer since 1977. The camp is used to house researchers (typically 6 people), provide a base of research operations, and allow laboratory studies. Biological investigation is the primary research conducted from the camp.

Designated pollutants would be associated with camp operations [typically air emissions and waste water (urine, greywater, and human solid waste)] and scientific activities (typically research materials). All wastes would be packaged and removed from the site for proper disposal in Chile or the U.S. under approved guidelines prior to the end of each season.

The permit applicant is: George Watters, Director, US AMLR Program, Southwest Fisheries Service, NOAA, 8604 La Jolla Shores Drive, La Jolla, CA 92037 Permit application No. 2012 WM-002.

Nadene G. Kennedy,
Permit Officer.

[FR Doc. 2011-20001 Filed 8-5-11; 8:45 am]

BILLING CODE 7555-01-P